CONSUMER PRODUCT SAFETY COMMISSION

[Docket No. CPSC-2012-0055]

Agency Information Collection Activities; Submission for OMB Review; Comment Request—Flammability Standards for Children's Sleepwear

AGENCY: Consumer Product Safety Commission.

ACTION: Notice.

SUMMARY: As required by the Paperwork Reduction Act of 1995, the Consumer Product Safety Commission (CPSC) announces a submission to the Office of Management and Budget (OMB), requesting an extension of approval for a collection of information associated with the Standard for the Flammability of Children's Sleepwear: Sizes 0 Through 6X; and the Standard for the Flammability of Children's Sleepwear: Sizes 7 Through 14, previously approved under OMB Control No. 3041-0027. On March 14, 2019, CPSC published a notice announcing the agency's intent to seek an extension of approval of this collection of information (84 FR 9310). CPSC received one comment in response to that notice, which is addressed below.

DATES: Written comments on this request for extension of approval of information collection requirements should be submitted by July 8, 2019.

ADDRESSES: Submit comments about this request by email: OIRA_submission@omb.eop.gov or fax: 202-395-6881. Comments by mail should be sent to the Office of Information and Regulatory Affairs, Attn: OMB Desk Officer for the CPSC, Office of Management and Budget, Room 10235, 725 17th Street NW, Washington, DC 20503. In addition, written comments that are sent to OMB also should be submitted electronically at: https://www.regulations.gov, under Docket No. CPSC-2012-0055.

FOR FURTHER INFORMATION CONTACT: Bretford Griffin, Consumer Product Safety Commission, 4330 East-West Highway, Bethesda, MD 20814; (301) 504-7037, or by email to: bgriffin@cpsc.gov.

SUPPLEMENTARY INFORMATION: One commenter asserts that the time cost of testing and maintenance of the testing records is 2 weeks, rather than 3 hours per item. The commenter contends that tests involve multiple stages, based on fabric, prototype, and garment, and involve multiple processes, such as washing/drying, cutting, cooling, and burning. According to the commenter, the maintenance of the testing records alone is 3-4 hours, including organizing the reports and samples.

CPSC staff's estimate of 3 hours includes the testing and recordkeeping. Although there are several stages involved in the testing, including washing and drying of samples, the commenter seems to include time estimates for down time and waiting periods. However, such periods should be excluded, since other work can be performed during that time. In addition, the difference in lab equipment can affect the average time, because some labs may have numerous washing machines and multiple test cabinets. Accordingly, the time estimates were based on an average across the industry and will not be adjusted at this time.

Title: Standard for the Flammability of Children's Sleepwear: Sizes 0 through 6X; and the Standard for the Flammability of Children's Sleepwear: Sizes 7 through 14.

OMB Number: 3041-0027.

Type of Review: Renewal of collection.

Frequency of Response: On occasion.

Affected Public: Manufacturers and importers of children's sleepwear.

Estimated Number of Respondents: Based on a review of past firm inspections, and published industry information, staff estimates that there could be as many as 981 domestic children's apparel manufacturers in the United States that are subject to the rule. However, not all of these manufacturers will produce children's sleepwear. Therefore, this figure is likely an overestimate of the actual number of firms performing tests and creating records in a given year. Furthermore, using the Harmonized Tariff System (HTS) codes for children's sleepwear, staff found approximately 3,037 importers that supply children's sleepwear to the U.S. market. However, many of the 981 domestic manufacturers, along with many large U.S. retailers, may be among the importers, and therefore, result in an overstatement of firms subject to the rule. If all 981 U.S. producers and all 3,037 importers introduced new children's sleepwear garments each year, the total number of firms subject to the CPSC recordkeeping requirements annually would be 4,018 (981 + 3,037).

Estimated Time per Response: Testing and recordkeeping of each item is approximately 3 hours.

Total Estimated Annual Burden: The 50 largest domestic manufacturers and the 100 largest importers may each introduce an average of 100 new children's sleepwear items annually. The annual burden for the 50 large domestic manufacturers and the 100 largest importers is estimated at 45,000 hours for testing and recordkeeping (150 firms × 100 items × 3 hours). Staff estimates that the remaining 931 manufacturers and 2,937 importers may each introduce an average of 10 new children's sleepwear items, for a total testing and recordkeeping burden of 116,040 hours (3,868 × 10 items × 3 hours.) Therefore, the total estimated potential annual burden imposed by the standard and regulations on all manufacturers and importers of children's sleepwear will be about 161,040 hours (45,000 + 116,040).

Description of Collection: The Standard for the Flammability of Children's Sleepwear: Sizes 0 through 6X (16 CFR part 1615) and the Standard for the Flammability of Children's Sleepwear: Sizes 7 through 14 (16 CFR part 1616) address the fire hazard associated with small-flame ignition sources for children's sleepwear manufactured for sale in, or imported into, the United States. The standards also require manufacturers and importers of children's sleepwear to collect information resulting from product testing and maintenance of the testing records. 16 CFR part 1615, subpart B; 16 CFR part 1616; subpart B.

Alberta E. Mills,
Secretary, Consumer Product Safety Commission.

[FR Doc. 2019-11972 Filed 6-6-19; 8:45 am]

BILLING CODE 6355-01-P